DEPARTMENT OF THE INTERIOR

Minerals Management Service

Agency Information Collection Activities: Submitted for Office of Management and Budget (OMB) Review; Comment Request

AGENCY: Minerals Management Service (MMS), Interior.

ACTION: Notice of extension of an information collection (1010-0128).

SUMMARY: To comply with the Paperwork Reduction Act of 1995 (PRA), we are notifying the public that we have submitted to OMB an information collection request (ICR) to renew approval of the paperwork requirements in the regulations under 30 CFR part 250, subpart O, “Well Control and Production Safety Training.” This notice also provides the public a second opportunity to comment on the paperwork burden of these regulatory requirements.

DATES: Submit written comments by August 11, 2006.

ADDRESSES: You may submit comments on this information collection directly to the Office of Management and Budget (OMB), Office of Information and Regulatory Affairs, OMB, Attention: Desk Officer for the Department of the Interior via OMB e-mail: (OIRA_DOCKET@omb.eop.gov); or by fax (202) 395-6566; identify with (1010-0128).

Submit a copy of your comments to the Department of the Interior, MMS, via:

• MMS's Public Connect on-line commenting system, https://ocsconnect.mms.gov. Follow the instructions on the Web site for submitting comments.

• E-mail MMS at rules.comments@mms.gov. Use Information Collection Number 1010-0128 in the subject line.

• Fax: 703-787-1093. Identify with Information Collection Number 1010-0128.

• Mail or hand-carry comments to the Department of the Interior; Minerals Management Service; Attention: Rules Processing Team (RPT); 381 Elden Street, MS-4024; Herndon, Virginia 20170-4817. Please reference “Information Collection 1010-0128” in your comments.

FOR FURTHER INFORMATION CONTACT: Cheryl Blundon, Rules Processing Team, (703) 787-1600. You may also contact Cheryl Blundon to obtain a copy, at no cost, of the ICR and regulations that require the subject collection of information.

SUPPLEMENTARY INFORMATION: Title: 30 CFR part 250, subpart O, Well Control and Production Safety Training.

OMB Control Number: 1010-0128.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) of the OCS Lands Act (43 U.S.C. 1332) requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to the Minerals Management Service (MMS). To carry out these responsibilities, MMS issues regulations governing oil and gas or sulphur operations in the OCS.

Regulations at 30 CFR part 250, subpart O, implement these safe operation requirements. The MMS uses the information collected under subpart O to ensure that workers in the OCS are properly trained with the necessary skills to perform their jobs in a safe and pollution-free manner. In some instances, MMS will conduct oral interviews of offshore employees to evaluate the effectiveness of a company's training program. The information collected is necessary to verify personnel training compliance with the requirements.

Frequency: Primarily on occasion.

Estimated Number and Description of Respondents: Approximately 130 Federal OCS lessees.

Estimated Reporting and Recordkeeping “Hour” Burden: The estimated annual “hour” burden for this information collection is a total of 2,106 hours. The following chart details the individual components and estimated hour burdens. In calculating the burdens, we assumed that respondents perform certain requirements in the normal course of their activities. We consider these to be usual and customary and took that into account in estimating the burden.

Citation 30 CFR 250 subpart O | Reporting & recordkeeping requirement | Hour burden | Average number of annual responses | Annual burden hours
1503(b), (c) | Develop training plans. Note: Existing lessees/respondents already have training plans developed. This number reflects development of plans for any new lessees | 60 | 2 | 120
1503(c) | Maintain copies of training plan and employee training documentation/record for 5 years | ¼ hr. (plan) 1/12 hr. (record) x 20,000 employee records | 136 | 34 *1,667
1503(c) | Upon request, provide MMS copies of employee training documentation or provide copy of training plan | 5 | 31 | 155
1507(b) | Employee oral interview conducted by MMS | ⅙ hr | 600 | 100
1507(c), (d); 1508; 1509 | Written testing conducted by MMS or authorized representative | Exempt under 5 CFR 1320.3(h)(7) |  | 0
1510(b) | Revise training plan and submit to MMS | 6 | 4 | 24
1500-1510 | General departure or alternative compliance requests not specifically covered elsewhere in subpart O | 2 | 3 | 6
Total Hour Burden |  |  | 776 | 2,106
*Rounded.

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 10, 2006, we published a Federal Register notice (71 FR 1552) announcing that we would submit this ICR to OMB for approval. The notice provided the required 60-day comment period. In addition, section 250.199 provides the OMB control number for the information collection requirements imposed by 30 CFR part 250, subpart O, regulations. The regulation also informs the public that they may comment at any time on the collections of information and provides the address to which they should send comments. We received two comments in response to the Federal Register notice. One comment was not germane to regulations at 30 CFR part 250, subpart O. The other commenter felt that * * *. “records on safety training should be kept for more than 5 years. with record storage requiring very little space these days, there is absolutely no reason why these records cannot be kept for ten years.”

MMS's response to the above commenter is the following: The 5-year retention requirement was not promulgated arbitrarily by MMS. Our rulemaking process follows the Administrative Procedure Act (APA) (5 U.S.C. 553) mandates with a comment period. Public comments are analyzed and incorporated into final rules. The oil and gas industry commented on the proposed rule after which a final rule was published. (Please refer to August 14, 2000, 65 FR 49487, final rule comment section.) Industry felt that the 5-year retention requirement was costly and unwarranted. The MMS disagreed and made the retention period 5 years (the APA says we only have to retain records for 3 years) to ensure that records will be available for the maximum time allowable under the statute of limitations for audit purposes.

If you wish to comment in response to this notice, you may send your comments to the offices listed under the ADDRESSES section of this notice. OMB has up to 60 days to approve or disapprove the information collection but may respond after 30 days. Therefore, to ensure maximum consideration, OMB should receive public comments by August 11, 2006.

Public Comment Procedures: MMS's practice is to make comments, including names and addresses of respondents, available for public review. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz, (202) 208-7744.

Dated: March 22, 2006.
E.P. Danenberger,
Chief, Office of Offshore Regulatory Programs.

Editorial Note: This document was received at the Office of the Federal Register on July 6, 2006.

[FR Doc. E6-10886 Filed 7-11-06; 8:45 am]

BILLING CODE 4310-MR-P